FEDERAL COMMUNICATIONS COMMISSION

47 CFR Chapter I

[DA 13-2025; WC Docket No. 05-337; WC Docket No. 13-184; GN Docket No. 13-185; ET Docket Nos. 03-137 and 13-84]

Revised Filing Deadlines Following Resumption of Normal Commission Operations; 2014 Modification of Average Schedule Company Universal Service High-Cost Loop Support Formula; Modernizing the E-Rate Program for Schools and Libraries; Reassessment of Exposure to Radiofrequency Electromagnetic Fields Limits and Policies

AGENCY: Federal Communications Commission.

ACTION: Proposed rulemaking; extension of filing deadlines.

SUMMARY: The Commission is further extending certain filing deadlines for rulemaking filings because the public did not have access to electronic docket and other online Commission resources during the suspension of operations due to the government-wide lapse in funding.

DATES:

• Comments or reply comments in rulemaking proceedings (except as otherwise specified) that were due between October 1 and October 6, 2013, will be due on October 22, 2013.

• Comments or reply comments in rulemaking proceedings (except as otherwise specified) that were due between October 7 and October 16, 2013 are due 16 calendar days after the original filing date.

• Comments or reply comments in rulemaking proceedings (except as otherwise specified) that were due to be filed between October 17 and November 4, 2013, are due November 4, 2013.

• Comments in WC Docket No. 05-337 are due by November 4, 2013; reply comments are due by November 19, 2013.

• Reply comments in WC Docket No. 13-184 are due November 8, 2013.

• Reply comments in GN Docket No. 13-185 are due October 28, 2013.

• Reply comments in ET Docket Nos. 03-137 and 13-84 are due November 18, 2013.

FOR FURTHER INFORMATION CONTACT: Elizabeth Lyle, Assistant General Counsel, 202-380-2348.

SUPPLEMENTARY INFORMATION: As a result of the recent government-wide lapse in funding, the Commission suspended normal operations from October 1, 2013 through October 16, 2013, for a total of 16 days. Among other things, the Commission's filing window, mail room, and all electronic filing systems, with the exception of the Network Outage Reporting System (NORS), were unavailable from October 1, 2013, until October 17, 2013. In addition, many Commission resources normally accessible through the Commission's Web site, including access to electronic dockets, were inaccessible for the same period.

On October 1, 2013, the Commission issued a public notice stating that “any materials, with the exception of NORS filings, that otherwise would be required to be filed with the Commission (at its headquarters, Gettysburg, PA or U.S. Bank), during the suspension of operations or on the day of return to normal operations, will be due on the business day following the day of return to normal operations.” Upon reopening on October 17, 2013, the Commission suspended all Commission filing deadlines that occurred during the shutdown or that will occur on or before October 21, other than NORS filing deadlines, until further notice. This Public Notice supersedes the October 1 and October 17 Public Notices.

Because parties did not have access to electronic dockets and other online Commission resources during the suspension of operations, we have determined to further extend the filing deadline for rulemaking filings, with the exception of certain specified filings, so as to provide filers with access to Commission resources for the period they would have had absent the suspension of Commission operations. Filings in rulemaking proceedings, with the exception of specified proceedings listed infra, that were due between October 1 and October 6 will be due on October 22, 2013. Filings, with the exception of specified proceedings listed infra, that were due between October 7 and October 16 will be due 16 days after the original filing date, an extension equivalent to the period of the Commission's closure. Thus, for example, a filing that would have been due on October 7, will be due on October 23, an extension of 16 days. To the extent the revised due dates for filings under this Public Notice fall on a weekend or other Commission holiday, they will be due on the next business day. Finally, filings in rulemaking proceedings, with the exception of specified proceedings listed infra, that would otherwise be required to be filed between October 17 and November 4 will be due for filing on November 4, 2013 (which is the first business day following a 16-day period after the Commission's October 17 reopening).

To the extent the due dates for filings to which reply or responsive pleadings are allowed are extended by this Public Notice, the due dates for the reply or responsive pleadings are extended by the same number of days. Thus, for example, if comments were originally due on October 30 and reply comments due ten days later, comments would now be due on November 4 and reply comments on November 14.

We have determined to further extend the filing deadline for the following proceedings as herein specified:

• 2014 Modification of Average Schedule Company Universal Service High-Cost Loop Support Formula. In WC Docket No. 05-337, the comment dates set forth in DA 13-1870 are revised as follows: Comments are due by November 4, 2013, and reply comments are due by November 19, 2013.

• Modernizing the E-Rate Program for Schools and Libraries, WC Docket No. 13-184. The due date for filing reply comments as set forth in FCC 13-100 is revised to November 8, 2013.

• Amendment of the Commission's Rules with Regard to Commercial Operations in the 1695-1710 MHz, 1755-1780 MHz, and 2155-2180 MHz Bands; Service Rules for Advanced Wireless Services in the 1915-1920 MHz, 1995-2000 MHz, 2020-2025 MHz, and 2175-2180 MHz Bands; Applications for License and Authority to Operate in the 2155-2175 MHz Band; Petitions for Forbearance Under 47 U.S.C. 160, Order on Reconsideration and Notice of Proposed Rulemaking, GN Docket No. 13-185. The due date for filing reply comments as set forth in FCC 13-102 is revised to October 28, 2013.

• Reassessment of Exposure to Radiofrequency Electromagnetic Fields Limits and Policies, ET Docket Nos. 03-137 and 13-84; FCC 13-39. The date for filing reply comments is revised to November 18, 2013.

In addition, Bureaus and Offices may by further Public Notice set additional filing deadlines different than those specified in this Public Notice for filings in specific proceedings or classes of proceedings.

The Commission cannot waive statutory filing deadlines such as those associated with petitions for reconsideration. Nonetheless, because of the disruption and uncertainty associated with the suspension of Commission activities and the relaunch of Commission filing systems, we will not consider the Commission open for filing of documents with statutory deadlines until Tuesday, October 22, 2013.

To the extent the due dates for filings to which reply or responsive pleadings are allowed are extended by this Public Notice, the due dates for the reply or responsive pleadings are extended by the same number of days. Thus, for example, if comments were originally due on October 30 and reply comments due ten days later, comments would now be due on November 4, 2013 and reply comments on November 14, 2013.

For these purposes, Section 1.4(j) of the Commission's rules, 47 CFR 1.4(j), otherwise requiring filings to be made on the first business day of resumed Commission operations, is hereby waived.

Federal Communications Commission.
Joel Kaufman,
Associate General Counsel.

[FR Doc. 2013-26255 Filed 10-31-13; 8:45 am]

BILLING CODE 6712-01-P